DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from December 29, 2008 to January 2, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov .

Dated: February 9, 2009.
J. Paul Loether,
Chief, National Register of Historic Places/National Historic Landmarks Program.

KEY: State, County, Property Name, Address/Boundary, City, Vicinity, Reference Number, NHL, Action, Date, Multiple Name

ALABAMA

Mobile County

Knox, Ross, House, 102 Hillwood Rd., Mobile, 08001252, LISTED, 12/30/08

FLORIDA

Orange County

Barbour, Robert Bruce, House, 656 Park Ave. N., Winter Park, 08001244, LISTED, 12/31/08

St. Johns County

Fort Matanzas NM Headquarters and Visitor Center, 8635 A1A S., St. Augustine, 08001245, LISTED, 12/31/08 (Florida's New Deal Resources MPS)

GEORGIA

Habersham County

Demorest Women's Club, 1035 Central Ave., Demorest, 08001247, LISTED, 12/30/08

Harris County

Bethlehem Baptist Church Colored School, 200 Bethlehem Dr., Pine Mountain Valley vicinity, 08001246, LISTED, 12/30/08

Taylor County

Mauk School, 37 GA 127 S., Mauk, 08001248, LISTED, 12/30/08

Troup County

Kidd-Robertson House, 2423 Greenville Rd., LaGrange vicinity, 08001249, LISTED, 12/30/08

ILLINOIS

Winnebago County

Lundberg, Charles, House, 946 N. 2nd St., Rockford, 08001251, LISTED, 12/30/08

IOWA

Benton County

Herring Hotel, 718 13th St., Belle Plaine, 08001250, LISTED, 12/31/08

MAINE

Cumberland County

Bailey Island Library Hall, 2167 Harpswell Island Rd., Harpswell, 08001253, LISTED, 12/31/08

Kennebec County

Kent Burying Ground, NE corner of Fayette Corner Rd. and Oak Hill Rd., Fayette, 08001254, LISTED, 12/31/08

Kennebec County

Winthrop Street Historic District (Boundary Increase), 20 Spring St., Augusta, 08001255, LISTED, 12/30/08

Lincoln County

Pythian Opera House, 86 Townsend Ave., Boothbay Harbor, 08001256, LISTED, 12/30/08

Oxford County

Forest Lodge, Carry Rd., about 1.9 mi. W. of Middle Dam, Upton, 08001257, LISTED, 12/30/08

York County

Biddeford—Saco Mills Historic District, Bounded by Pearl, Lincoln, York and Main Sts., Biddeford, Gooch and Saco Sts., Biddeford, 08001258, LISTED, 12/30/08

MASSACHUSETTS

Suffolk County

Compton Building, 159, 161-175 Devonshire St., 18-20 Arch St., Boston, 08001284, LISTED, 12/31/08

MISSOURI

Cape Girardeau County

Main—Spanish Commercial Historic District, Roughly the 100 blocks of Main and Spanish Sts. and adjacent portions of Themis and Independence, Cape Girardeau, 08001259, LISTED, 12/30/08 (Cape Girardeau, Missouri MPS)

St. Louis County

Webster Park Residential Historic District, Roughly bounded by Newport, Bompart, E. Lockwood, N. Maple and Glen Rd., Webster Groves, 08001260, LISTED, 12/30/08

MONTANA

Fergus County

Naylor Brothers Ranch Historic District, 503 E. Dry Creek Rd., Buffalo, 08001261, LISTED, 12/30/08

Flathead County

Beck, Alice, Cabin, S. of Kelly's Camp Rd., E. of McDonald Creek., Glacier National Park, Lake McDonald, 08001219, LISTED, 12/26/08 (Recreational Camps on Lake McDonald, MT)

Flathead County

Greve's Tourist Cabins, W. side of Going-to-the-Sun Rd., Glacier National Park, Lake McDonald vicinity, 08001222, LISTED, 12/26/08 (Recreational Camps on Lake McDonald, MT)

Flathead County

Howes' Lake McDonald Cottage Sites Historic District, N. side of Apgar Loop Rd., Glacier National Park, West Glacier vicinity, 08001223, LISTED, 12/26/08 (Recreational Camps on Lake McDonald, MT)

Flathead County

Sherwood Lodge, Grist Rd., Glacier National Park, West Glacier vicinity, 08001226, LISTED, 12/26/08 (Recreational Camps on Lake McDonald, MT)

OREGON

Multnomah County

Pacific Hardware and Steel Company Warehouse, 2181 NW Nicolai St., Portland, 08001263, LISTED, 12/31/08

Washington County

Young, John Quincy Adams and Elizabeth, House, 12050 NW Cornell Rd., Portland vicinity, 08001264, LISTED, 12/31/08

PENNSYLVANIA

Delaware County

Woodcrest, 610 King of Prussia Rd., Radnor Township, 08001265, LISTED, 12/30/08

Lawrence County

Scottish Rite Cathedral, 110 E. Lincoln Ave., New Castle, 08001266, LISTED, 12/30/08

Luzerne County

St. Stanislaus Institute, 141 Old Newport St., Newport Township, 08001267, LISTED, 12/30/08

Northampton County

Lutz-Franklin School, 4216 Countryside La., Lower Saucon Township, 08001268, LISTED, 12/30/08 (Educational Resources of Pennsylvania MPS)

Philadelphia County

Amalgamated Center, 2101-2143 S. St., Philadelphia, 08001269, LISTED, 12/30/08

Philadelphia County

Wynnestay, 5125 Woodbine Ave., Philadelphia, 08001270, LISTED, 12/30/08

York County

York Historic District (Boundary Increase), Edgar and Charles St., MD and PA Railroad, Vander and Church Aves., York, 08001271, LISTED, 12/30/08

VIRGINIA

Suffolk Independent City

Somerton Historic District, Arthur Dr., Pittmantown Rd., Boonetown Rd., Suffolk vicinity, 08001272, LISTED, 12/31/08

[FR Doc. E9-3234 Filed 2-13-09; 8:45 am]

BILLING CODE 4310-51-P